NATIONAL AERONAUTICS AND SPACE ADMINISTRATION

[Notice (18-029)]

Notice of Intent To Grant Partially Exclusive License

AGENCY: National Aeronautics and Space Administration.

ACTION: Notice of intent to grant partially exclusive license.

SUMMARY: NASA hereby gives notice of its intent to grant a partially exclusive license in the United States to practice the invention described and claimed in a U.S. Patent Application corresponding to NASA Case Number, ARC-17266-1, entitled “Atmospheric Pressure Plasma Based Fabrication of Printable Electronics and Functional Coatings” to Space Foundry, Inc., having its principal place of business at 1035 Aster Avenue, Unit 1120, Sunnyvale, CA 94086.

DATES: The prospective partially exclusive license may be granted unless NASA receives written objections, including evidence and argument no later than April 18, 2018 that establish that the grant of the license would not be consistent with the requirements regarding the licensing of federally owned inventions as set forth in the Bayh-Dole Act and implementing regulations. Competing applications completed and received by NASA no later April 18, 2018 will also be treated as objections to the grant of the contemplated partially exclusive license. Objections submitted in response to this notice will not be made available to the public for inspection and, to the extent permitted by law, will not be released under the Freedom of Information Act.

ADDRESSES: Objections relating to the prospective license may be submitted to Patent Counsel, Office of Chief Counsel, NASA Ames Research Center, Mail Stop 202A-4, Moffett Field, CA 94035-1000. (650) 604-5104; Fax (650) 604-2767.

FOR FURTHER INFORMATION CONTACT: Robert M. Padilla, Chief Patent Counsel, Office of Chief Counsel, NASA Ames Research Center, Mail Stop 202A-4, Moffett Field, CA 94035-1000. (650) 604-5104; Fax (650) 604-2767.

Information about other NASA inventions available for licensing can be found online at https://technology.nasa.gov.

Mark Dvorscak,
Agency Counsel for Intellectual Property.

[FR Doc. 2018-06718 Filed 4-2-18; 8:45 am]

BILLING CODE 7510-13-P